DEPARTMENT OF COMMERCE

National Oceanic and Atmospheric Administration

[I.D. 030204A]

Marine Mammals; File No. 881-1745

AGENCY: National Marine Fisheries Service (NMFS), National Oceanic and Atmospheric Administration (NOAA), Commerce.

ACTION: Receipt of application.

SUMMARY: Notice is hereby given that the Alaska SeaLife Center (ASLC), P.O. Box 1329, Seward, Alaska 99664 (Dr. Shannon Atkinson, Principal Investigator), has applied for a permit to take Steller sea lions (Eumetopias jubatus) for purposes of scientific research.

DATES: Written, telefaxed, or e-mail comments must be received on or before April 7, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Comments may also be submitted by e-mail. The mailbox address for providing email comments is NMFS.Pr1Comments@noaa.gov. Include in the subject line of the e-mail comment the following document identifier: File No. 881-1745

FOR FURTHER INFORMATION CONTACT: Amy Sloan or Dr. Tammy Adams, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The ASLC requests a 5-year permit to continue its research on three permanently captive Steller sea lions held by the ASLC to investigate stress responses, endocrine and immune system function, and seasonal variations to normal biological parameters such as mass and body composition, and to conduct research and development of external tags and attachments for future deployment in the field. These animals will also be used to develop and test less intrusive methods that can be used in the field. Authorization is requested: (1) for attachment of scientific instruments, stomach temperature telemetry, stable isotope administration via food or intravenously, oral administration of deuterium labeled vitamins, and video/photographic/ radiographic/digital/thermal imaging; (2) for collecting morphometric data, blubber ultrasound measurements, blood samples, epidermal and mucosal swabs, blubber biopsies, and bioenergetic and metabolic measurements; (3) for conducting bioelectrical impedance analysis, hormone stimulation trials, food trials/dietary manipulation/fasting studies, underwater foraging and drag trials; and (4) for determining body condition via D20 injections and total blood volume via Evans blue dye injection.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Concurrent with the publication of this notice in the Federal Register, NMFS is forwarding copies of this application to the Marine Mammal Commission and its Committee of Scientific Advisors.

Dated: March 3, 2004.
Stephen L. Leathery,
Chief, Permits, Conservation and Education Division, Office of Protected Resources, National Marine Fisheries Service.

[FR Doc. 04-5188 Filed 3-5-04; 8:45 am]

BILLING CODE 3510-22-S